DEPARTMENT OF THE INTERIOR

Fish and Wildlife Service

[FWS-R6-R-2010-N078; 60138-1261-6CCP-S3]

Charles M. Russell National Wildlife Refuge and UL Bend National Wildlife Refuge, MT

AGENCY: Fish and Wildlife Service, Interior.

ACTION: Notice of availability: Draft comprehensive conservation plan and draft environmental impact statement; announcement of public meetings; request for comments.

SUMMARY: We, the U.S. Fish and Wildlife Service (Service), announce the availability of a draft comprehensive conservation plan (CCP) and draft environmental impact statement (DEIS) for Charles M. Russell and UL Bend National Wildlife Refuges (NWRs, Refuges) in Montana for public review and comment. In these documents, we describe alternatives, including our proposed action, to manage these refuges for the 15 years following approval of the final CCP.

DATES: To ensure consideration, please send your written comments by November 8, 2010. We will announce upcoming public meetings in local news media, on our Web site, and by mail.

ADDRESSES: You may submit your comments or a request for copies (hard copies or a CD-ROM) or more information by any of the following methods:

Agency Web site: Download a copy of the documents at http://www.fws.gov/cmr/planning.

E-mail: cmrplanning@fws.gov. Include “Request copy of Charles M. Russell NWR Draft CCP/EIS” in the subject line of the message.

Mail: Charles M. Russell NWR CCP/EIS, P.O. Box 110, Lewistown, MT 59457.

In-Person Viewing or Pickup: Call (406) 538-8706 to make an appointment during regular business hours at Charles M. Russell NWR Headquarters, Airport Road, Lewistown, MT 59457.

Local Library or Libraries: The draft documents are available for review at the libraries listed under SUPPLEMENTARY INFORMATION.

FOR FURTHER INFORMATION CONTACT: Barron Crawford, Project Leader, at (406) 538-8706, or Laurie Shannon, Planning Team Leader, (303) 236-4317; laurie_shannon@fws.gov (e-mail).

SUPPLEMENTARY INFORMATION:

Introduction

With this notice, we continue the CCP process for Charles M. Russell and UL Bend NWRs. We started this process through a notice in the Federal Register (72 FR 68174, December 4, 2007).

Charles M. Russell and UL Bend NWRs encompass nearly 1.1 million acres, including Fort Peck Reservoir in north central Montana. The Refuges extend about 125 air miles west from Fort Peck Dam to the western edge at the boundary of the Upper Missouri Breaks National Monument. UL Bend NWR lies within Charles M. Russell NWR. In essence, UL Bend is a refuge within a refuge, and the two refuges are managed as one unit and referred to as Charles M. Russell NWR. Refuge habitat includes native prairie, forested coulees, river bottoms, and badlands. Wildlife is as diverse as the topography and includes Rocky Mountain elk, mule deer, white-tailed deer, pronghorn, Rocky Mountain bighorn sheep, sharp-tailed grouse, prairie dogs, and more than 236 species of birds.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, which is consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

The formal scoping period began on December 4, 2007, with the publication of a notice of intent in the Federal Register. Prior to this and early in the preplanning phase, we outlined a process that would be inclusive of diverse stakeholder interests and would involve a range of activities for keeping the public informed and ensure meaningful public input. This process was summarized in a planning update titled Public Involvement Summary (October 2007). Soon after, a project Web site was created, and since then the Public Involvement Summary, four additional planning updates, and other information have been posted to the Web site. We have mailed all planning updates to the project mailing list.

We began the process with formal notification to Native American Tribes and other Federal and State agencies. Subsequently, there are a number of cooperating agencies participating on the planning project, including the U.S. Army Corps of Engineers; Bureau of Land Management; Montana Fish, Wildlife, and Parks; Montana Department of Natural Resources and Conservation; Fergus, Petroleum, Garfield, McCone, Valley, and Phillips Counties; and the Missouri River Council of Conservation Districts. We also formally consulted with the Fort Belknap and Fort Peck Tribes in July 2009 and have encouraged their participation in the process.

During the initial scoping period, we received about 24,000 written responses. Hundreds of people attended seven public meetings across Montana, providing many verbal comments. Following the comment period, we summarized the information we learned and prepared a scoping report, which was posted to the project Web site. In the fall of 2008, we again reached out to the public and the cooperating agencies and sought additional input on four potential draft alternatives prior to fully developing and analyzing them. We held seven additional public meetings during this time and consequently received hundreds of additional written and oral responses.

We have considered all public comments throughout the process and have incorporated them in numerous ways. The significant issues for the project include a number of issues related to habitat and wildlife, water resources, public use and access, wilderness, socioeconomics, partnerships and collaboration, and cultural values, traditions, and resources. We have considered and evaluated all of these comments, with many incorporated into the various alternatives addressed in the draft CCP and draft EIS.

CCP Alternatives We Are Considering

During the public scoping process with which we started work on this draft CCP, we, our cooperating agencies, other governmental partners, Tribes, conservation organizations, and the public raised several issues. Our draft CCP addresses them. A full description of each alternative is in the draft EIS. To address these issues, we developed and evaluated four alternatives which are summarized below.

Alternative A—No Action. Few changes would occur in the management of existing wildlife populations and habitat. Wildlife-dependent public and economic uses would continue at current levels. Key actions follow:

• There would be continued emphasis on big game management, annual livestock grazing, use of fencing for pastures, invasive species control, and water development. Habitat would be managed in 65 habitat units that were originally established by the Bureau of Land Management. Prescriptive grazing would only be implemented when units became available.

• We would manage big game to achieve the target levels identified in an earlier EIS developed in 1986. There could be more restrictive regulations for rifle mule deer harvest on portions of the refuge as compared with State regulations.

• Select stock ponds would be maintained and rehabilitated. Riparian habitat would be restored where possible.

• The public would continue to access the Refuge on 670 miles of roads. About 155,288 acres of proposed wilderness within 15 units of the Charles M. Russell NWR would be managed in accordance with Service policy.

Alternative B—Wildlife Population Emphasis. We would manage the landscape, in cooperation with our partners, to emphasize the abundance of wildlife populations using balanced natural ecological processes such as fire and grazing by wild ungulates and responsible synthetic methods such as farming and tree planting. Wildlife-dependent public use would be encouraged, and economic uses would be limited when they compete for habitat resources. Key actions follow:

• Habitat would be actively managed and manipulated, thus creating a diverse plant community of highly productive wildlife food and cover plants. The emphasis would be on habitat for targeted species of wildlife in separate parts of the Refuge. We would consolidate the 65 habitat units based on field station boundaries and subsequently write new habitat management plans. Former agricultural river bottom areas would be aggressively restored, and we would restore the functioning condition of riparian areas. Prescriptive livestock grazing would be implemented across 75 percent of the Refuge within 4-7 years, and interior fencing would be removed, if necessary. We would increase the use of prescribed fire to enhance fire-adapted plants. We would also implement a number of research projects to respond to climate change on the Refuge.

• Additional habitat suitable for Rocky Mountain bighorn sheep would be identified, and new populations would be established. Wildlife populations would be benefited, and harvest experiences that are not always achieved on other public lands would be promoted.

• About 106 miles of roads would be closed. The Service would work with partners to develop a travel plan and to secure access to the Refuge through other lands.

• The acreage of proposed wilderness would be expanded by 25,037 acres in 6 existing units.

Alternative C—Public Use and Economic Uses Emphasis. We would manage the landscape, in cooperation with our partners, to emphasize and promote the maximum compatible wildlife-dependent public use and economic uses while protecting wildlife populations and habitats to the extent possible. Damaging effects on wildlife habitat would be minimized while using a variety of management tools to enhance and diversify public and economic opportunities. Key actions follow:

• In addition to the habitat elements identified in Alternative A, habitats would be managed to provide more opportunities for wildlife-dependent recreation. This could require a compromise between providing wildlife food and cover and livestock forage needs. Where needed, fencing and water gaps would be used to manage livestock use and prevent further degradation of riparian habitat.

• There would be a gradual move to a prescriptive livestock grazing program when current grazing permits become available due to a change in ranch ownership. Prescribed fire would be used primarily to reduce hazardous fuels. An aggressive initial attack would be used in identified habitat units to minimize economic losses from wildfire. Research projects would be implemented to respond to climate change on the Refuge.

• Natural and constructed water sources would be allowed for livestock use, public fishing, and hunting. Future water developments would be allowed on a site-specific basis.

• A balance would be maintained between the numbers of big game and livestock in order to sustain habitats and populations of big game and sharp-tailed grouse. Similar balancing might be needed for nongame or migratory birds and livestock needs.

• Hunting opportunities would be expanded and maximized to include new species and traditional or niche (primitive weapon) hunting, mule deer season, predator hunting, trapping, and opportunities for young hunters.

• We would manage Refuge access to benefit public and economic uses. Access to boat ramps would be improved, and roads could be improved or seasonally closed where needed. Numbers of visitors participating in wildlife observation and other activities would be increased by a moderate amount through increased programs and facilities.

• The Service would recommend eliminating 4 proposed wilderness units for a reduction of 35,881 acres.

Alternative D—Proposed Action—Ecological Processes Emphasis. In cooperation with our partners, we would use natural, dynamic, ecological processes and management activities in a balanced, responsible manner to restore and maintain the biological diversity, biological integrity, and environmental health of the Refuge. Once natural processes are restored, a more passive approach (less human assistance) would be favored. There would be quality wildlife-dependent public uses and experiences. Economic uses would be limited when they are injurious to ecological processes. Key actions follow:

• Management practices that mimic and restore natural processes, as well as maintain a diversity of plant species in upland and riparian areas on the Refuge, will be applied.

• Plant diversity and health would be maintained by using natural and prescribed fire in combination with wild ungulate herbivory (wildlife feeding on plants) or prescriptive livestock grazing, or both, to ensure the viability of sentinel plants (those plants that decline first when management practices are injurious). To achieve this goal, prescriptive livestock grazing, on up to 75 percent of the Refuge within 9 years, would be implemented to reduce the number of habitat units, remove unnecessary fencing, and to restore degraded riparian areas. The Service would work with partners to combat invasive weeds. Research projects would be implemented to respond to climate change on the Refuge, and in particular, would focus on the resiliency of plants to adapt to climate change.

• The Service would collaborate with Montana Department of Fish, Wildlife, and Parks and others, to maintain the health and diversity of all species' populations, including game, nongame, and migratory bird species. These efforts will focus on restoring and maintaining balanced, self-sustaining populations. Limited hunting for predators would be considered only after population levels could be verified and sustained. The Service would provide for a variety of quality hunting opportunities, including those with population objectives that have diverse male age structures.

• Refuge access would be managed to benefit natural processes and habitat. Permanent and seasonal road closures would be implemented on at least 23 miles of roads as needed, to encourage free movement of animals, permit prescribed fire activities, harvest wildlife ungulates, or allow other activities that contribute to ecological health. Numbers of visitors participating in wildlife observation and other activities would be increased through increased quality programs and facilities.

• The Service would recommend expanding 6 of the proposed wilderness units by 18,559 acres and eliminating 3 units, for a reduction of 26,744 acres. This would accommodate more access in some areas while increasing protection of wilderness values in other areas.

Public Availability of Documents

You can view or obtain documents at the following locations:

• Our Web site: http://www.fws.gov/cmr/planning.

• The following public libraries:

Library | Address | Phone number
Garfield County | 228 E. Main, Jordan, MT 59337 | (406) 557-2297
Glasgow | 408 3rd Avenue, Glasgow, MT 59230 | (406) 228-2731
Great Falls | 301 2nd Avenue, Great Falls, MT 59401 | (406) 453-0349
Lewistown | 701 W. Main, Lewistown, MT 59457 | (406) 538-5212
McCone County | 1101 C Avenue, Circle, MT 59215 | (406) 485-2350
Petroleum County | 205 S. Broadway, Winnett, MT 59087 | (406) 429-2451
Phillips County | 10 S. 4th Street E., Malta, MT 59538 | (406) 542-2407
Montana State University-Billings | 1500 University Drive, Billings, MT 59101 | (406) 657-2011
Montana State University-Bozeman | Roland R. Renne Library, Centennial Mall, Bozeman, MT 59717 | (406) 994-3171
Montana State University-Havre | Northern Vande Bogart Library, Cowan Drive, Havre, MT 59501 | (406) 265-3706
University of Montana | Mansfield Library, 32 Campus Drive, Missoula, MT 59812 | (406) 243-6860
Colorado State University | Morgan Library, 501 University Avenue, Fort Collins, CO 80523 | (970) 491-1841

Public Meetings

We will hold public meetings that will be announced through the local media, on our Web site, and by mailing out a planning update prior to the meetings. For more information on the meetings, refer to FOR FURTHER INFORMATION CONTACT.

Submitting Comments/Issues for Comment

We particularly seek comments on the following significant issues:

• Issue 1—Habitat and wildlife management;

• Issue 2—Water resources;

• Issue 3—Public use and access;

• Issue 4—Wilderness management;

• Issue 5—Socioeconomics;

• Issue 6—Partnerships and collaboration; and

• Issue 7—Cultural values, traditions, and resources.

We consider comments substantive if they:

• Question, with reasonable basis, the accuracy of the information in the document;

• Question, with reasonable basis, the adequacy of the environmental assessment;

• Present reasonable alternatives other than those presented in the draft EIS; and/or

• Provide new or additional information relevant to the assessment.

Next Steps

After this comment period ends, we will analyze the comments and address them in the form of a final CCP and final EIS.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 24, 2010.
Hugh Morrison,
Acting Deputy Director.

[FR Doc. 2010-22160 Filed 9-3-10; 8:45 am]

BILLING CODE 4310-55-P